DEPARTMENT OF ENERGY

National Nuclear Security Administration

Revised Fee Policy for Acceptance of Foreign Research Reactor Spent Nuclear Fuel From High-Income Economy Countries

AGENCY: National Nuclear Security Administration, Department of Energy.

ACTION: Notice of a change in the fee policy.

SUMMARY: This notice announces a change in the fee policy by the Department of Energy (DOE) for receipt and management of spent nuclear fuel (SNF) from foreign research reactors (FRR) containing uranium enriched in the U.S. in countries with high-income economies, as identified in the World Bank Development Report. The fee will increase in three phases (See Table 1) for all future SNF shipments (including Training, Research, Isotopes, General Atomics (TRIGA) from high-income economy countries. The first phase will take effect immediately and the fee will increase from no higher than $3,750 per kg total mass (not heavy metal mass) to $5,625 per kg total mass for SNF containing low enriched uranium (LEU). The second phase will be implemented automatically on January 1, 2014, and the fees will increase from $5,625 per kg total mass to $7,500 per kg total mass for shipments of SNF containing LEU and from no higher than $4,500 per kg total mass to $6,750 per kg total mass for SNF containing highly enriched uranium (HEU). The third phase will be implemented automatically on January 1, 2016, and the fee will increase from $6,750 per kg total mass to $9,000 per kg total mass for shipments of SNF containing HEU. DOE is also implementing a new minimum fee of $200,000 per shipment of any type and amount of eligible SNF to reflect a minimum cost of providing acceptance services. This minimum fee will take effect immediately. In the case where a reactor operator already has a signed and executed contract with DOE, DOE intends to negotiate an equitable adjustment to the fee in accordance with this revised fee policy. Under this revised fee policy, the fee for return of TRIGA fuel will be the same as that of aluminum based fuel. All other aspects of the fee policy are unaffected by this Notice.

This is the first fee increase since the fee policy was established in 1996, and will help DOE offset a portion of the increase in operation costs of managing SNF. DOE will continue to pay the costs for shipping, receipt and management of SNF from other than high-income economy countries. All other conditions and policies as previously established for acceptance of FRR SNF will continue to apply. DOE reserves the right to revise the fee policy at any time to respond to changed circumstances. DOE also reserves the right to adjust the fee set in an acceptance contract if there are unique and compelling circumstances that make it in DOE's best interest to do so.

DATES: Effective dates: Minimum fee January 31, 2012; First phase—January 31, 2012; Second phase—January 1, 2014; Third phase—January 1, 2016.

FOR FURTHER INFORMATION CONTACT: Mr. Andrew Bieniawski, Assistant Deputy Administrator for Global Threat Reduction (NA-21), U.S. Department of Energy, National Nuclear Security Administration, 1000 Independence Avenue SW., Washington, DC 20585, Telephone (202) 586-0775.

SUPPLEMENTARY INFORMATION: DOE's policy concerning recovery of FRR SNF containing uranium enriched in the U.S. is described in the “Record of Decision (ROD) for the Final Environmental Impact Statement on a Proposed Nuclear Weapons Nonproliferation Policy Concerning Foreign Research Reactor Spent Nuclear Fuel” (61 FR 25092, May 17, 1996). In the ROD, DOE stated that it would announce a fee policy for acceptance of FRR SNF and that the policy could be changed as necessary to reflect changes in cost or new information relevant to the policy. In 1996, DOE established the fee policy and published it in a Federal Register Notice, (61 FR 26507, May 28, 1996). The policy was subsequently revised only to address the question of how, during the course of the acceptance program, a change in the economic status of the country from which SNF is shipped would affect the fee charged for participation (64 FR 18006, April 13, 1999). The maximum fees have remained constant since the establishment of the fee policy in 1996, even though the costs of SNF management have risen dramatically. DOE is revising its fee policy to take into account this rise in costs.

DOE has decided to increase the maximum fees by 100% (from its current rates) in three phases (See Table 1) for all future SNF shipments (including TRIGA fuels), which should minimize the impact to the high-income economy countries and allow those countries adequate time to plan for additional funding.

• The first phase will take effect January 31, 2012; and the fee will increase from no higher than $3,750 per kg total mass to $5,625 per kg of total mass for SNF shipments containing LEU.

• The second phase will be implemented automatically on January 1, 2014 and the fee will increase from $5,625 per kg of total mass to $7,500 per kg total mass for SNF shipments containing LEU and from no higher than $4,500 per kg total mass to $6,750 per kg total mass for SNF shipments containing HEU.

• The third phase will be implemented automatically on January 1, 2016, and the fee will increase from $6,750 per kg total mass to $9,000 per kg total mass for SNF shipments containing HEU.

• DOE is also implementing a new minimum fee of $200,000 per shipment of any type and amount of eligible SNF to reflect a minimum cost of providing acceptance services, which is consistent with past approaches of implementing the FRR SNF fee policy and reflects a more appropriate portion of the cost of providing acceptance services. This minimum fee will take effect January 31, 2012.

• In the case where a reactor operator already has a signed and executed contract with DOE, DOE intends to negotiate an equitable adjustment to the fee in accordance with this revised fee policy.

• Under this revised fee policy the fee for return of TRIGA fuel will be the same as that of aluminum based fuel, as noted above.

Table 1—Summary of Fee Policy
Effective dates | Aluminum based fuel: LEU | Aluminum based fuel: HEU | Training, Research, Isotopes, General Atomics (TRIGA): LEU | Training, Research, Isotopes, General Atomics (TRIGA): HEU
Current Rates | $3,750 | $4,500 | $4,500 | $4,500
Date of Publication in Federal Register | 5,625 | 4,500 | 5,625 | 4,500
January 1, 2014 | 7,500 | 6,750 | 7,500 | 6,750
January 1, 2016 | 7,500 | 9,000 | 7,500 | 9,000
The Department of Energy is also implementing a new minimum fee of $200,000 per shipment of any type and amount of eligible fuel to reflect a minimum cost of providing acceptance services.
All rates are “per kg total mass” (not heavy metal mass).
The first phase of the change in the current fee policy takes effect immediately upon publication of this Notice in the Federal Register.

DOE is not establishing the fee structure for target material as it would be established on a case-by-case basis and would be agreed to and specified on the shipping-receipt contract for a particular campaign. DOE reserves the right to revise the fee policy at any time to respond to changed circumstances. DOE also reserves the right to adjust the fee set in an acceptance contract if there are unique and compelling circumstances that make it in DOE's best interest to do so. Please note that all other conditions and policies for accepting FRR SNF as previously established will continue to apply.

Issued in Washington, DC, this 25th day of January, 2012.
Andrew Bieniawski,
Assistant Deputy Administrator, National Nuclear Security Administration, Department of Energy.

[FR Doc. 2012-2052 Filed 1-30-12; 8:45 am]

BILLING CODE 6450-01-P